DEPARTMENT OF DEFENSE

Corps of Engineers, Department of the Army

Intent To Prepare a Draft Environmental Impact Statement/Environmental Impact Report (EIS/EIR) for a Permit Application for the Berths 136-147 Terminal Improvement Project, Also Known as the TraPac Container Terminal in the Port of Los Angeles, Los Angeles County, CA

AGENCY: U.S. Army Corps of Engineers, DOD.

ACTION: Notice of intent (NOI).

SUMMARY: The U.S. Army Corps of Engineers (Corps) Los Angeles District in conjunction with the Los Angeles Harbor Department (Port) is examining the feasibility of waterside, terminal and transportation improvements at Berths 136-147 in the Port of Los Angeles. The Corps is considering the Port's application for a Department of the Army permit under Clean Water Act section 404 and River and Harbor Act section 10 to conduct dredge and fill activities and construct one new wharf approximately 705 feet and seismically upgrade two wharves approximately 3,022 feet in length associated with the proposed project.

Major project elements to be covered in the Draft EIS/EIR include: Wharf construction and landside improvements. The landside developments will include expansion, redevelopment and construction of marine terminal facilities, and transportation infrastructure improvements including construction of grade separations, and potential realignment of road and railways.

The primary Federal involvement is the discharge of dredge and/or fill materials within waters of the United States, work (e.g. dredging) and structures in or affecting navigable waters of the United States, and potential impacts on the human environment from such activities. Therefore, in accordance with the National Environmental Policy Act (NEPA), the Corps is requiring the preparation of an Environmental Impact Statement (EIS) prior to rendering a final decision on the Port's permit application. The Corps may ultimately make a determination to permit or deny the above project or permit or deny modified versions of the above project.

Pursuant to the California Environmental Quality Act (CEQA), the Port will serve as Lead Agency for the Preparation of an Environmental Impact Report (EIR). The Corps and the Port have agreed to jointly prepare a Draft EIS/EIR for the improvements at Berth 136-147 in order to optimize efficiency and avoid duplication. The Draft EIS/EIR is intended to be sufficient in scope to address both the Federal and the state and local requirements and environmental issues concerning the proposed activities and permit approvals.

FOR FURTHER INFORMATION CONTACT: Questions about the proposed action and Draft EIS/EIR can be answered by Mr. Joshua Burnam, Corps Project Manager, at (213) 452-3294. Comments shall be addressed to: U.S. Army Corps of Engineers, Los Angeles District, Regulatory Branch. ATTN: File Number 2003-0-1142-JLB PO Box 532711, Los Angeles, CA 90053-2325, and Dr. Ralph Appy, Director of Environmental Management, Port of Los Angeles, 425 S. Palos Verdes St., San Pedro, CA 90731.

SUPPLEMENTARY INFORMATION: 1. Project Site and Background Information. The proposed project is located in the northwestern portion of the Port of Los Angeles, adjacent to the San Pedro District of the City of Los Angeles, CA. The proposed project involves dredge and fill operations, new wharf construction, coupled with terminal expansion on adjacent areas of existing land, and improvement of transportation infrastructure at and adjacent to Berths 136-147.

The project's overall goals are to upgrade the container cargo handling efficiency at the Berths 136-147 Terminal, increase its cargo handling capacity, and to improve transportation infrastructure in order to accommodate forecasted and planned increases in the volume of containerized goods shipped through the Port. In order to meet these goals, the following objectives must be met:

• Establish needed container facilities that would maximize the use of existing waterways and integrate into the Port's overall utilization of available shoreline, while maintaining opportunities for the future integration with adjacent terminals;

• Construct sufficient container berthing and infrastructure capacity to accommodate foreseeable increases in containerized cargo volumes entering the Port;

• Create sufficient backland area for optimal container terminal operations including, storage, transport, and on/offloading of container ships in a safe and efficient manner;

• Provide access to rail and truck infrastructure locations in order to minimize surface transportation congestion or delays and promote transport to both local and distant cargo destinations; and

• Provide needed container terminal accessory buildings and structures to support containerized cargo handling requirements.

2. Proposed Action. The first phase of construction would consolidate most of this area into a single terminal and upgrade its operations by increasing backland capacity, constructing approximately 705 feet of new wharf, upgrading wharves to handle modern container terminal ships, adding an on-dock rail yard to reduce container truck traffic, constructing two grade separations to facilitate rail and truck shipments, and constructing a noise barrier (with landscaping and recreational facilities) along Harry Bridges Boulevard. The Harry Bridges Boulevard realignment would move the existing roadway approximately 580 feet north toward “C” Street. As a result of these improvements, the gross terminal area would increase in size from 176 acres to 238 acres with a corresponding increase in throughput capacity. The improvements would make the facility more efficient. The proposed project elements for the Phase I construction period include:

Phase I Berth 136-147

• Construction Stage I (completed by 2005)

(1) Construction and operation of a new 705-foot wharf (78,135 square feet) at Berths 145-147. There would be no loss of waters of the U.S.

(2) Dredging of 265,000 cubic yards (cy) of material along the waterfront at Berths 145-147 to match approved-53 MLLW channel depths, with material to be placed at confined disposal site(s) (CDF) at either the Port of Los Angeles or the Port of Long Beach or at an appropriate upland site.

(3) Construction of 179,500 cy of rock dike, placement of 24,000 cy of fill behind the dike, and placement of 699 concrete piles at Berths 145-147.

(4) Construction and development of 62 acres of additional backland area for container storage.

(5) Construct a 3,200-foot long noise barrier between the realigned Harry Bridges Boulevard and residences along “C” Street between Figueroa Street and Lagoon Avenue.

(6) Two existing 50-gauge cranes would be removed and one new 100-gauge crane would be erected. The other four 100-gauge cranes on Berths 142-146 would remain.

(7) Construction of an on-dock intermodal container terminal facility (ICTF) rail yard within the former location of the Pier A rail yard.

(8) Construction and operation of two grade separations at Neptune Avenue and Avalon Boulevard to eliminate potential traffic delays that would otherwise be caused by trains.

(9) Construction of additional terminal gate facilities and accessory buildings.

Phase II Berth 136-147

Proposed improvements in this area would expand backlands for container terminal use and improve wharves to efficiently handle increased cargo throughput and deep draft container ships. The backland expansion would increase the terminal size from 238 acres to approximately 250 acres. The proposed projects elements for the Phase II construction period include:

• Construction Stage II (2005-2010)

(1) Improvements and upgrades to approximately 2,000 feet of wharves at Berths 136-139 including dredging to handle the planned −53-foot channel depth.

(2) Redevelopment of the vacated area at the Westway and Water Street sites into approximately 14 acres of additional backland.

(3) The existing seven 100-gauge cranes on Berths 136-139 would remain.

3. Issues. There are several potential environmental issues that will be addressed in the EIS/EIR. Additional issues may be identified during the scoping process. Issues initially identified as potentially significant include:

(a) Geological issues, including dredging and stabilization of fill areas in an area of known seismic activity;

(b) Impacts to hydrology;

(c) Impacts to air quality;

(d) Impacts to traffic, including marine navigation and ground transportation;

(e) Potential for noise impacts;

(f) Impacts to public utilities and services;

(g) Potential impacts to aesthetic resources, including light and glare;

(h) Potential impacts on public health and safety;

(i) Cumulative impacts; and

(j) Disposal of dredged materials.

4. Alternatives. Alternatives initially being considered for the proposed improvement project include the following:

(a) Alternate location(s) for the Terminal Improvements (within the State or within the Ports of Los Angeles/Long Beach).

(b) Development of new landfills for a container terminal.

(c) Non-containerized use of terminal (i.e., lumber, autos).

(d) Non-shipping use i.e., park, cruise terminal, commercial development, empty container storage, etc.

(e) No Federal action (No wharf construction or dredging—construction of only backlands developments for Phases I and II) with and without Harry Bridges being relocated.

(f) Larger facility (14-acre fill for more storage area).

(g) Reduce Wharf (reduced fill'reduction in rip-rap, pilings, and dredging).

(h) Proposed project without Harry Bridges Boulevard being relocated.

(i) No Project (no physical changes).

5. Scoping Process. The Corps and the Port will conduct separate, simultaneous English and Spanish language public scoping meeting on November 5, 2003 at 6 p.m., to receive public comment and assess public concerns regarding the appropriate scope and preparation of the Draft EIS/EIR. The meeting will be held at the Wilmington Recreational Center at 325 North Neptune Avenue. Parties interested in being added to the Corps' electronic mail notification list for the Port of Los Angeles can register at: http://www.spl.usace.army.mil/regulatory/register.html. This list will be used in the future to notify the public about scheduled hearings and availability of future public notices. Participation in the public meeting by federal, state and local agencies and other interested organizations and persons are encouraged.

6. Availability of the Draft EIS/EIR. The joint lead agencies expect the Draft EIS/EIR to be made available to the public in July 2004. A public hearing will be held during the public comment period for the Draft EIS/EIR.

Dated: October 9, 2003.
Richard G. Thompson,
Colonel, U.S. Army, District Engineer.

[FR Doc. 03-26969 Filed 10-24-03; 8:45 am]

BILLING CODE 3710-92-P